DEPARTMENT OF THE INTERIOR

National Park Service

National Register of Historic Places; Notification of Pending Nominations

Nominations for the following properties being considered for listing in the National Register were received by the National Park Service before January 12, 2002. Pursuant to section 60.13 of 36 CFR part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW, Suite 400, Washington DC, 20002; or by fax, 202-343-1836. Written or faxed comments should be submitted by February 13, 2002.

Carol D. Shull,
Keeper of the National Register of Historic Places.

Arizona

Cochise County:

Sacred Heart Church, 516 Safford St., Tombstone, 02000032

Pima County:

Arizona Daily Star Building, 30 N. Church Ave., Tucson, 02000033

Arkansas

Pulaski County:

Argenta Historic District (Boundary Increase), 616 Orange St., 116 W. 7th St., 206 W. 7th St., 212 W. 7th St., 220 W. 7th St., 616 Maple St., and 620 Maple St., North Little Rock, 02000076

California

Los Angeles County:

Azusa Civic Center, 213 Foothill Blvd., Azusa, 02000034

Colorado

El Paso County:

Colorado Springs City Hall, 107 N. Nevada Ave., Colorado Springs, 02000075

Delaware

New Castle County:

Wilmington YMCA, 501 W. 11th St., Wilmington, 02000035

Georgia

Chattooga County:

Riegel Hospital, 194 Allgood St., Trion, 02000079

Fulton County:

Empire Manufacturing Company Building, 575 Glen Iris Dr., NE, Atlanta, 02000078

Greene County:

Siloam Junior High School, 473 GA 15S, Siloam, 02000036

Harris County:

Whitesville Methodist Episcopal Church, South, and Cemetery, 4731 Pine Lake Rd., Whitesville, 02000077

Lumpkin County:

Holly Theatre, 69 W. Main St., Dahlonega, 02000080

Illinois

Richland County:

Olney Carnegie Library, (Illinois Carnegie Libraries MPS) 401 E. Main St., Olney, 02000037

Louisiana

Orleans Parish:

Shell Building, 925 Common St., New Orleans, 02000039

Red River Parish:

Thomas House, 787 LA, Martin, 02000038

Massachusetts

Barnstable County:

Teaticket School, 340 Teaticket Hwy, MA 28 at Sandwich Rd., Falmouth, 02000082

Suffolk County:

Francis and Isabella Apartments, 430-432 and 434-436 Dudley St., Boston, 02000081

Michigan

Berrien County:

Fidelity Building, 162 Pipestone St., Benton Harbor, 02000042

Calhoun County:

Milk Producers Company Barn, 47 S. Cass St., Battle Creek, 02000043

Menominee County:

Wells, J.W., State Park, N7670 MI M-35, Cedarville, 02000040

Wayne County:

Ford Piquette Avenue Plant, 411 Piquette Ave., Detroit, 02000041

Leland, Nellie, School, 1395 Antietam St., Detroit, 02000044

Mississippi

Harrison County:

Biloxi Veterans Administration Medical Center, 400 Veterans Ave., Biloxi, 02000045

Missouri

Johnson County:

Howard School, 400 W. Culton St., Warrensburg, 02000046

Montana

Lewis and Clark County:

Montana State Arsenal, Armory and Drill Hall, 1100 North Main, Helena, 02000048

Stillwater County:

4K Ranch, Fiddler Creek Rd., Dean, 02000049

Halfway House, 3951 MT 78, Columbus, 02000047

New Mexico

Bernalillo County:

Jonson Gallery and House, 1909 Las Lomas Rd. NE, Albuquerque, 02000050

Eddy County:

Dark Canyon Apache Rancheria—Military Battle Site, Address Restricted, Queen, 02000083

New York

Onondaga County:

Berkeley Park Subdivision Historic District, (Historic Designed Landscapes of Syracuse MPS) Roughly bounded by Strattford St., Ackerman Ave., Morningside Cemetery, and Comstock Ave., Syracuse, 02000055

Oswego County:

Clarke, Edwin W. and Charlotte, House, (Freedom Trail, Abolitionism, and African American Life in Central New York MPS), 80 E. Mohawk St., Oswego, 02000052

Green, Nathan and Clarissa, House, (Freedom Trail, Abolitionism, and African American Life in Central New York MPS), 98 West Eight St., Oswego, 02000054

Littlefield, Hamilton and Rhoda, House, (Freedom Trail, Abolitionism, and African American Life in Central New York MPS), 44 E. Oneida St., Oswego, 02000051

Pease, Daniel and Miriam, House, (Freedom Trail, Abolitionism, and African American Life in Central New York MPS), 361 Cemetery Rd., Oswego, 02000053

North Carolina

Mecklenburg County:

Pharradale Historic District, Bounded by Biltmore, Dr., Cherokee Rd., Providence Rd. and Scotland Ave., Charlotte, 02000057

Pitt County:

Red Banks Primitive Baptist Church, NC 1704, jct. with NC 1725, Bell Fork, 02000060

Rutherford County:

Washburn Historic District, 2401, 2426, 2436 Bostic-Sunshine Hwy, 1391,1392 Andrews Mill Rd., 126-156, 157 Salem Church Rd., Bostic, 02000056

Wake County:

Downtown Wake Forest Historic District, (Wake County MPS) South White St. roughly from E. Roosevelt Ave. to Owen Ave., Wake Forest, 02000059

Glenwood—Brooklyn Historic District (Boundary Increase and Decrease), Roughly bounded by W. Peace St., St. Mary's St., Wills Forest St. and Glenwood Ave., Raleigh, 02000058

Ohio

Erie County:

First Regular Anti-Slavery Baptist Church, 315 Decatur St., Sandusky, 02000061

Summit County:

Schmitt, Louis, House and Store, 2967 Hickory St., Clinton, 02000084

Pennsylvania

Blair County:

Knickerbocker Historic District, 4th, 5th and 6th Aves., Burgoon Rd., 40th and 41Sts., Altoona, 02000064

Bradford County:

Troy Public High School, 250 High St., Troy, 02000067

Chester County:

Byers Station Historic District, Jct. of Byers and Eagle Farm Rds., Upper Uwchlan, 02000062

Franklin County:

Burns, Jeremiah, Farm, 10988 Fish and Game Rd., Waynesboro, 02000065

Lancaster County:

Byers—Muma House, 1402 Trout Run Rd., East Donegal, 02000070

Mifflin County:

Pennsylvania Main Line Canal, Juniata Division, Canal Section, 1.5 mi. section of canal bet. PA RR Main Line and Juniata River, Granville Township, 02000069

Philadelphia County:

Fairmount Avenue Historic District, Fairmount Ave., Melon St., North St., 15th St., 16th St., and 17th St., Philadelphia, 02000066

Smyser and English Pharmacy, 245-247 W. Chelten Ave., Philadelphia, 02000071

Social Service Building, 311 S. Juniper St., Philadelphia, 02000063

Somerset County:

Second National Bank of Meyersdale, 151 Center St., Meyersdale, 02000068

Tennessee

White County:

Community Building, 5 W. Maple St., Sparta, 02000085

Texas

Harris County:

Houston Post-Dispatch Building, 609 Fannin, Houston, 02000072

Hays County:

Bunton Branch Bridge, Cty. Rd. 210, approx. 0.2 mi. NW of jct. with IH-35 at Bunton Overpass, Kyle, 02000086

Washington

King County:

McGrath Cafe and Hotel—The McGrath, 101 W. North Bend Way, North Bend, 02000089

Snohomish County:

Stanwood IOOF Public Hall, 27128 102nd Ave. NW, Stanwood, 02000087

Spokane County:

Hutton, Levi and May Arkwright, House, 2206 W. 17th Ave., Spokane, 02000088

Wisconsin

Oconto County:

Boulder Lake Site, (Historic Logging Industry in State Region 2 and the Nicolet NF MPS), Address Restricted, Doty, 02000073

In an effort to assist in the preservation of the following resource the comment period has been reduced to three (3) days:

California

Los Angeles County:

Hoover Hotel, 7035 Greenleaf Ave., Whittier, 02000074

A request for REMOVAL has been made for the following resources:

Iowa

Muscatine County:

Bowman Livery Stable, 219 E. Mississippi Dr., Muscatine, 74000799

Tennessee

Montgomery County:

Drane-Foust House, 319 Home Ave., Clarksville, 88001023

Shelby County:

Saunders, Clarence, Estate, 5922 Quince, Memphis, 89001969

[FR Doc. 02-2063 Filed 1-28-02; 8:45 am]

BILLING CODE 4310-70-P